DEPARTMENT OF ENERGY

Federal Energy Regulatory Commission

Notice of Application for Non-Project Use of Project Lands and Waters and Soliciting Comments, Motions To Intervene, and Protests

February 21, 2006.

Take notice that the following hydroelectric application has been filed with the Commission and is available for public inspection:

a. Type of Application: Non-Project Use of Project Lands and Waters.

b. Project No.: 2146-113.

c. Date Filed: February 7, 2006.

d. Applicant: Alabama Power Company.

e. Name of Project: Coosa River Project.

f. Location: The Logan-Martin Development of the Coosa River Project is located in St. Clair and Talledaga Counties, Alabama. The development contains approximately 5 acres of Federal lands.

g. Filed pursuant to: 18 CFR 4.201.

h. Applicant Contact: Mr. Alan Peeples, Alabama Power Company, 600 N. 18th Street, PO Box 2641, Birmingham, AL 35291-8180, (205) 257-1401.

i. FERC Contact: Any questions on this notice should be addressed to Diana Shannon (202) 502-8887, or diana.shannon@ferc.gov.

j. Deadline for filing motions to intervene, protests, comments: March 22, 2006.

k. Description of Proposed Action: Alabama Power Company requests approval to allow the Coosa Valley Water Supply District (CVWSD) to withdraw up to 9.33 million gallons per day (mgd) from the Logan Martin Reservoir for municipal purposes. This water would supplement the water supply found in the CVWSD-owned quarry (which itself could supply approximately 2.5 mgd) adjacent to the Logan Martin Reservoir. The licensee requests authorization to allow the CVWSD to construct, maintain, and operate an intake structure and pipeline (on project lands) which would lead to a raw water pumping station that would be located outside the project boundary. The application documented consultation with federal and state agencies.

l. Locations of Applications: A copy of the application is available for inspection and reproduction at the Commission in the Public Reference Room, located at 888 First Street NE., Room 2A, Washington DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call toll-free 1-866-208-3676 or e-mail FERCOnlineSupport@ferc.gov. For TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers (P-2146-113). All documents (original and eight copies) should be filed with: Magalie R. Salas, Secretary, Federal Energy Regulatory Commission, 888 First Street, NE., Washington DC 20426. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E6-2865 Filed 2-28-06; 8:45 am]

BILLING CODE 6717-01-P